DEPARTMENT OF ENERGY

Federal Energy Regulatory Commission

Combined Notice of Filings #2

Take notice that the Commission received the following electric corporate filings:

Docket Numbers: EC16-69-000.

Applicants: Duke Energy Florida, LLC.

Description: Application for Authorization to Transfer Assets under Section 203 of the Federal Power Act of Duke Energy Florida, LLC.

Filed Date: 2/10/16.

Accession Number: 20160210-5089.

Comments Due: 5 p.m. ET 3/2/16.

Take notice that the Commission received the following electric rate filings:

Docket Numbers: ER16-524-001.

Applicants: Wolverine Holdings, L.P.

Description: Tariff Amendment: Amendment to Notice of Succession to be effective 1/1/2016.

Filed Date: 2/10/16.

Accession Number: 20160210-5045.

Comments Due: 5 p.m. ET 3/2/16.

Docket Numbers: ER16-526-001.

Applicants: Sempra Generation, LLC.

Description: Tariff Amendment: Sempra Generation, LLC Amended Market-Based Rate Tariff Feb. 10, 2016 to be effective 12/31/2024.

Filed Date: 2/10/16.

Accession Number: 20160210-5068.

Comments Due: 5 p.m. ET 3/2/16.

Docket Numbers: ER16-921-000.

Applicants: ISO New England Inc., New England Power Pool Participants Committee.

Description: § 205(d) Rate Filing: Revisions to Forward Reserve Market Offer Cap and Elimination of Price Netting to be effective 6/1/2016.

Filed Date: 2/10/16.

Accession Number: 20160210-5075.

Comments Due: 5 p.m. ET 3/2/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 10, 2016.
Nathaniel J. Davis, Sr.,
Deputy Secretary.

[FR Doc. 2016-03309 Filed 2-17-16; 8:45 am]

BILLING CODE 6717-01-P